ENVIRONMENTAL PROTECTION AGENCY

[EPA-HQ-OPPT-2009-0281; FRL-8413-1]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from March 23, 2009 through April 10, 2009, consists of the PMNs and TME, both pending or expired, and the notices of commencement to manufacture a new chemical that the Agency has received under TSCA section 5 during this time period. Premanufacturer Notices P09-87 thru P09-129 which covered the time period of December 2, 2008 through December 18, 2008 were inadvertaly left out of the Federal Register and are included in this notice.

DATES: Comments identified by the specific PMN number or TME number, must be received on or before June 19, 2009.

ADDRESSES: Submit your comments, identified by docket identification (ID) number EPA-HQ-OPPT-2009-0281, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2009-0281. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2009-0281. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from March 23, 2009 through April 10, 2009, consists of the PMNs and TME, both pending or expired, and the notices of commencement to manufacture a new chemical that the Agency has received under TSCA section 5 during this time period.

III. Receipt and Status Report for PMNs

This status report identifies the PMNs and TME, both pending or expired, and the notices of commencement to manufacture a new chemical that the Agency has received under TSCA section 5 during this time period. If you are interested in information that is not included in the following tables, you may contact EPA as described in Unit I. to access additional non-CBI information that may be available. Premanufacturer Notices P09-87 thru P09-129 which covered the time period of December 2, 2008 through December 18, 2008 were inadvertaly left out of the Federal Register and now are included in this notice.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 68 Premanufacture Notices Received From: 3/23/09 to 4/10/09
Case No. | Received Date | Projected Notice End Date | Manufacturer/Importer | Use | Chemical
P-09-0087 | 12/02/08 | 03/01/09 | Momentive Performance Materials | (G) Catalyst complex for release coatings | (G) Vinyl silicone resin complex
P-09-0088 | 12/04/08 | 03/03/09 | Momentive Performance Materials | (G) Release coating for polyethylene and polypropylene substrates | (G) Branched silyl hydride cross linker
P-09-0089 | 12/04/08 | 03/03/09 | Momentive Performance Materials | (G) Chemical intermediate | (G) Methyl hydrogen siloxanes and silicones chemical intermediate
P-09-0090 | 12/04/08 | 03/03/09 | Momentive Performance Materials | (G) Silsesquioxanes chemical intermediate | (G) Silsesquioxanes
P-09-0091 | 12/05/08 | 03/04/09 | CBI | (G) Crosslinking agent for coatings | (G) Aromatic polyisocyanate, aliphatic diol, glycol ethers-blocked
P-09-0092 | 12/05/08 | 03/04/09 | CBI | (G) Crosslinking agent for coatings | (G) Aromatic polyisocyanate, aliphatic diol, glycol ethers-blocked
P-09-0093 | 12/05/08 | 03/04/09 | CBI | (G) Crosslinking agent for coatings | (G) Aromatic polyisocyanate, aliphatic alcohol, aliphatic diol, glycol ethers-blocked
P-09-0094 | 12/05/08 | 03/04/09 | CBI | (G) Crosslinking agent for coatings | (G) Aromatic polyisocyanate, aliphatic alcohol, aliphatic diol, glycol ethers-blocked
P-09-0095 | 12/05/08 | 03/04/09 | CBI | (G) Crosslinking agent for coatings | (G) Aromatic polyisocyanate, aliphatic diol, glycol ethers-blocked
P-09-0096 | 12/05/08 | 03/04/09 | CBI | (G) Crosslinking agent for coatings | (G) Aromatic polyisocyanate, aliphatic diol, glycol ethers-blocked
P-09-0097 | 12/05/08 | 03/04/09 | CBI | (G) Rheological additive, toughener, film former for thermoset adhesives | (S) Amines, C36-alkylenedi-, polymers with pyromellitic dianhydride, maleated
P-09-0098 | 12/04/08 | 03/03/09 | CBI | (G) Polymer additive | (S) Zinc, bis[3-(acetyl-.kappa.O)-6-methyl-2H-pyran-2,4(3H)-dionato-.kappa.O4]diaqua-
P-09-0099 | 12/03/08 | 03/02/09 | CBI | (G) Coating component | (G) Fluoroethylene vinyl copolymer
P-09-0100 | 12/05/08 | 03/04/09 | Sachem, Inc. | (G) Chemical intermediate | (S) Tricyclo [3.3.1.13,7] decan-1-aminium, N,N,N-trimethyl-, chloride (1:1)
P-09-0101 | 12/05/08 | 03/04/09 | Sachem, Inc. | (G) Chemical intermediate | (S) Tricyclo [3.3.1.13,7] decan-1-aminium, N,N,N-trimethyl-, hydroxide (1:1)
P-09-0102 | 12/09/08 | 03/08/09 | CBI | (G) Concrete additive | (G) Acrylate polymer with vinyl ether
P-09-0103 | 12/09/08 | 03/08/09 | CBI | (S) Solder mask for printed circuit board preparation | (G) Formaldehyde, polymers with alkyl aromatic phenol, cycloaliphatic-phenol polymer glycidyl ether, epichlorohydrin and aromatic diol, acrylic cycloaliphatic carboxylates.
P-09-0104 | 12/09/08 | 03/08/09 | 3M | (G) Adhesive | (G) Polyurea acrylate
P-09-0105 | 12/09/08 | 03/08/09 | Dow Agrosciences | (G) Chemical intermediate | (G) Halo substituted benzonitrile
P-09-0106 | 12/09/08 | 03/08/09 | Meadwestvaco Corporation — Specialty Chemicals Division | (S) Asphalt emulsifier salt | (G) Fatty acids, tall-oil, reaction products with modified fatty acids and polyalkanolamines, hydrochlorides
P-09-0107 | 12/09/08 | 03/08/09 | Meadwestvaco Corporation | (S) Asphalt emulsifier | (G) Fatty acids, tall-oil, reaction products with modified fatty acids and polyalkanolamines.
P-09-0108 | 12/10/08 | 03/09/09 | CBI | (G) Chemical intermediate | (G) Dialkyl imidazolium halide
P-09-0109 | 12/10/08 | 03/09/09 | CBI | (G) Lubricant additive | (G) Alkyl ammonium tungstate complex
P-09-0110 | 12/10/08 | 03/09/09 | CBI | (G) Lubricant additive | (G) Alkyl ammonium tungstate complex
P-09-0111 | 12/05/08 | 03/04/09 | PPG Industries, Inc. | (G) Component of coating with open use | (G) Alkoxysilane functional acrylic resin
P-09-0112 | 12/10/08 | 03/09/09 | CBI | (G) Aerspace structural adhesive | (G) Bis-A-epoxy resin—CTBN adduct
P-09-0113 | 12/11/08 | 03/10/09 | CBI | (S) Polymerizable component of adhesive formulations | (G) Substituted bisphenolf resin
P-09-0114 | 12/11/08 | 03/10/09 | Esstech, Inc. | (S) Adhesive | (S) 1,2,4,5-benzenetetracarboxylic acid; 1,4-bis (2-((2-methyl-1-oxo-2-propenyl) oxy)-1-(((2-methyl-1-oxo-2-propenyl) oxy) methyl) ethyl ester
P-09-0115 | 12/11/08 | 03/10/09 | CBI | (G) Oilfield production chemical | (G) Alkanedioic acid, polymer with N-(aminoalkyl)-alkyldiamine, (chloromethyl)oxirane and alkylpolyol, acid salt
P-09-0116 | 12/09/08 | 03/08/09 | Colonial chemical, Inc. | (S) Detergent for hard surface cleaners | (S) Coconut oil, reaction products with diisopropanolamine
P-09-0117 | 12/09/08 | 03/08/09 | Colonial Chemical, Inc. | (S) Detergent for hard surface cleaners | (S) Fats and glyceridic oils, sesame, reaction products with diisopropanolamine
P-09-0118 | 12/09/08 | 03/08/09 | Colonial Chemical, Inc. | (S) Detergent for hard surface cleaners | (S) Fats and glyceridic oils, avocado, reaction products with diisopropanolamine
P-09-0119 | 12/09/08 | 03/08/09 | Colonial Chemical, Inc. | (S) Detergent for hard surface cleaners | (S) Corn oils, reaction products with diisopropanolamine
P-09-0120 | 12/15/08 | 03/14/09 | CBI | (S) Polymerizable component of adhesive formulations | (G) Epoxidized siloxane
P-09-0121 | 12/15/08 | 03/14/09 | CBI | (G) Fuel additive | (G) Substituted pyrrolidinealkanaminium, polyalkylene derivates
P-09-0122 | 12/16/08 | 03/15/09 | CBI | (G) Coating resin for organic electrophotographic photoconductor | (G) Silicone modified polycarbonate
P-09-0123 | 12/16/08 | 03/15/09 | The Dow Chemical Company | (G) Two component polyurethane ealstomers (MDI based) | (G) Polyester polyol
P-09-0124 | 12/17/08 | 03/16/09 | Gharda Chemicals Limited | (S) Manufacture of automotive parts; manufacture of wire cable and insulation; manufacture of industrial valve linigs; manufacture of heat exchange parts; oil field pipe flanges; aircraft exterior and interior aircraft components; dry transfer insulation | (G) Poly (ether ketone)
P-09-0125 | 12/17/08 | 03/16/09 | Gharda Chemicals Limited | (S) Manufacture of automotive parts; manufacture of wire and cable insulation; manufacture of industrial valve linings; manufacture of heat exchange parts; oil field pipe flanges and gaskets; aircraft - exterior and interior components; dry transfer insulation | (G) polyarylene ether nitrile
P-09-0126 | 12/17/08 | 03/16/09 | CBI | (S) Intermediate for fuel additive | (G) Substituted pyrrolidine alkylamine, polyalkylene derivates
P-09-0127 | 12/18/08 | 03/17/09 | CBI | (G) Open, non-dispersive use (industrial coatings resin) | (G) Aliphatic polyurethane resin aqueous dispersion
P-09-0128 | 12/18/08 | 03/17/09 | Huntsman International, LLC | (S) Exhaust dyeing of cotton | (G) Naphthalenedisulfonic acid azo substituted napthalenesulfonic acid amino substituted triazin amino phenyl alkyl sulfonyl conpound
P-09-0129 | 12/18/08 | 03/17/09 | CBI | (G) Open non-dispersive (adhesive) | (G) Aqueous polyurethane resin dispersion
P-09-0284 | 03/25/09 | 06/22/09 | CBI | (G) Unsaturated polyester resin for filled and fiber reinforced composites | (G) Unsaturated polyester resin
P-09-0285 | 03/25/09 | 06/22/09 | CBI | (G) Unsaturated polyester resin for filled and fiber reinforced composites | (G) Unsaturated polyester resin
P-09-0286 | 03/25/09 | 06/22/09 | Cytec Industries Inc. | (G) Coatings resin | (G) Poly (oxyalkylenediyl), a-substituted carbomonocycle-.omega.-substituted carbomonocycle
P-09-0287 | 03/26/09 | 06/23/09 | CBI | (G) Diesel fuel additive | (G) Acrylic acid, alkyl ester, polymer with ethylene and vinyl carboxylate
P-09-0288 | 03/27/09 | 06/24/09 | CBI | (G) Silicone additive | (G) Alkyl silsesquioxanes
P-09-0289 | 03/27/09 | 06/24/09 | The Dow Chemical Company | (S) Solid epoxy resins for powder coatings | (G) Solid epoxy resin
P-09-0290 | 03/27/09 | 06/24/09 | The Dow Chemical Company | (S) Solid epoxy resins for powder coatings | (G) Solid epoxy resin
P-09-0291 | 03/30/09 | 06/27/09 | CBI | (G) Polymerization aid | (G) Ammonium salt of fluoropropanoic acid
P-09-0292 | 03/31/09 | 06/28/09 | Alberdingk Boley Inc. | (S) For wood and plastic coatings | (G) Hexanedioic acid, polymer with 2-(chloromethyl)oxirane polymer with 2-ethyl-2-(hydroxymethyl)-1,3-propanediol, hexanedioicacid, 4,4′-(1-methylethylidene)bis[phenol] and oxirane 2-propenoate, 2,2-dimethyl-1,3-propanediol, 1,6-hexanediol, 3-hydroxy-2-(hydroxymethyl)-2-methylpropanoic acid and 5-isocyanato-1-(isocyanatomethyl)-alkylcyclohexane, compound with N,N-diethylethanamine
P-09-0293 | 03/31/09 | 06/28/09 | CBI | (G) Coating for open, non-dispersive use; surface active agent | (G) Phosphoric acid, mixed esters with partially fluorinated alcohol, ammonium salts
P-09-0294 | 03/31/09 | 06/28/09 | CBI | (G) Coating for open, non-dispersive use; surface active agent | (G) Phosphoric acid, mixed esters with partially fluorinated alcohol, ammonium salts
P-09-0295 | 03/30/09 | 06/27/09 | CBI | (G) Dispersant\wetting agent | (G) Copolymer of the esters of acrylic acid and methacrylic acid
P-09-0296 | 03/30/09 | 06/27/09 | CBI | (G) Dispersant\wetting agent | (G) Acrylic acid esters and methacrylic acid esters copolymer, cmpound with aminoethylpropanol
P-09-0297 | 03/30/09 | 06/27/09 | CBI | (G) Dispersant\wetting agent | (G) Copolymer of acrylic acid and methacrylic acid esters, and vinylcaprolactam
P-09-0298 | 03/30/09 | 06/27/09 | CBI | (G) Dispersant\wetting agent | (G) Copolymer of acrylic acid and methacrylic acid esters, and vinylcaprolactam, compound with aminomethylpropanol
P-09-0299 | 04/02/09 | 06/30/09 | CBI | (G) Dispersant for organic pigments in polyolefin thermoplastics | (G) Fatty acid amide
P-09-0300 | 04/03/09 | 07/01/09 | CBI | (G) Diesel fuel additive | (G) Aromatic dicarboxylic acid dialkyl amide dialkyl ammonium salt
P-09-0301 | 04/03/09 | 07/01/09 | CBI | (G) Adhesive component | (G) Adipic acid, polymer with carbomonocyclic diisocyanates, benzenepolycarboxylic acids and alkanediols
P-09-0302 | 04/03/09 | 07/01/09 | CBI | (G) Raw material | (G) Adipic acid, polymer with benzenepolycarboxylic acids and alkanepolyols
P-09-0303 | 04/03/09 | 07/01/09 | CBI | (G) Raw material | (G) Adipic acid, polymer with benzenepolycarboxylic acids and alkanediols
P-09-0304 | 04/07/09 | 07/05/09 | CBI | (G) Binding aid | (G) Propanamine blocked polymeric isocyanate
P-09-0305 | 04/07/09 | 07/05/09 | CBI | (G) Adhesive and sealant | (G) Polymeric isocyanate
P-09-0306 | 04/06/09 | 07/04/09 | CBI | (G) Dispersant | (G) Polyester
P-09-0307 | 04/10/09 | 07/08/09 | CBI | (S) Raw material used in ultra violet curable inks and coatings | (G) Amine acrylate co-initiator
P-09-0308 | 04/10/09 | 07/08/09 | CBI | (S) Raw material used in ultra violet curable inks and coatings | (G) Amine modified polyester acrylate

In Table II of this unit, EPA provides the following information (to the extent that such information is not claimed as CBI) on the TMEs received:

II. 1 Test Marketing Exemption Notices Received From: 3/23/09 to 4/10/09
Case No. | Received Date | Projected Notice End Date | Manufacturer/Importer | Use | Chemical
T-09-0008 | 03/25/09 | 05/08/09 | Cytec Industries Inc. | (G) Coatings resin | (G) Poly(oxyalkylenediyl), a-substituted carbomonocycle-.omega.-substituted carbomonocycle

In Table III of this unit, EPA provides the following information (to the extent that such information is not claimed as CBI) on the Notices of Commencement to manufacture received:

III. 38 Notices of Commencement From: 3/23/09 to 4/10/09
Case No. | Received Date | Commencement Notice End Date | Chemical
P-02-0112 | 03/25/09 | 10/19/04 | (G) Amidosiloxane
P-04-0514 | 04/03/09 | 03/18/09 | (G) Polybutadiene acrylate
P-06-0103 | 04/08/09 | 03/19/09 | (G) Polyetherpolyol polymer with aromatic ketone
P-07-0071 | 03/20/09 | 03/01/09 | (G) Mdi and polymeric MDI prepolymer
P-07-0587 | 04/01/09 | 03/17/09 | (G) N,N-dialkylalkylamine
P-08-0340 | 04/03/09 | 03/06/09 | (G) 1,2-ethanediamine, N1,N2-bis(2-aminoethyl), polymer with haloalkyloxirane and polyoxyalkane
P-08-0477 | 04/03/09 | 03/18/09 | (G) Hexyl carbamate
P-08-0560 | 04/01/09 | 03/18/09 | (G) Modified polyalkyldiene polymer
P-08-0642 | 04/06/09 | 03/31/09 | (G) Fluorinated acrylic copolymer
P-08-0705 | 03/27/09 | 03/09/09 | (S) Chromium, 1-[2-[5-(1,1-dimethylpropyl)-2-hydroxy-3-nitrophenyl]diazenyl]-2-naphthalenol 1-[2-[2-hydroxy-4(or 5)-nitrophenyl]diazenyl]-2-naphthalenol ammonium sodium complexes
P-08-0719 | 04/03/09 | 03/18/09 | (G) Polyester polyol
P-08-0742 | 03/24/09 | 03/04/09 | (S) Phosphonium, tetrabutyl-, hydroxide (1:1)
P-09-0005 | 03/24/09 | 03/14/09 | (G) Substituted phenol, polymer with 2-(chloromethyl)oxirane 1,3-diisocyanatomethylbenzene, 2-ethylhexanoate (ester), cyclized, reaction products with diethylenetriamine and 2-(methylamino) ethanol
P-09-0010 | 04/02/09 | 03/05/09 | (G) Polyurethane pre-polymers of polymeric MDI and polyether polyols
P-09-0049 | 04/06/09 | 03/26/09 | (G) Acrylic copolymer
P-09-0069 | 03/25/09 | 03/19/09 | (G) Amides, from lignin, tall oil fatty acids, C21 dicarboxylic acids and polyalkanolamines
P-09-0070 | 03/25/09 | 03/19/09 | (G) Amides, from lignin, tall oil fatty acids, C21 dicarboxylic acids and polyalkanolamines, hydrochlorides
P-09-0081 | 03/24/09 | 02/27/09 | (G) Polymer of aliphatic diols, aliphatic polyols, and carboxylic anhydrides
P-09-0086 | 03/26/09 | 03/16/09 | (S) Cyclosiloxanes, me 3-(2-oxiranylmethoxy)propyl
P-09-0092 | 03/25/09 | 03/18/09 | (G) Aromatic polyisocyanate, aliphatic diol, glycol ethers-blocked
P-09-0121 | 04/08/09 | 04/02/09 | (G) Substituted pyrrolidinealkanaminium, polyalkylene derivates
P-09-0126 | 04/06/09 | 03/25/09 | (G) Substituted pyrrolidine alkylamine, polyalkylene derivates
P-94-2242 | 04/02/09 | 06/01/95 | (G) Salt of aminotetrazole
P-08-0070 | 12/15/08 | 11/25/08 | (G) Fluorosilicone
P-08-0229 | 12/08/08 | 11/18/08 | (G) Polyether and trialkylsilylalkylamine modified polyurethane
P-08-0230 | 12/08/08 | 11/18/08 | (G) Trialkoxysilylalkylene modified polydialkylsiloxane
P-08-0399 | 12/17/08 | 11/24/08 | (S) 1-(2,3-dimethyl-bicyclo[2.2.1]heptan)-ethanone
P-08-0409 | 12/03/08 | 11/05/08 | (G) Alpha-alkenes, C20-24 .alpha.-,polymers with maleic anhydride, C16-30-alkyl esters
P-08-0421 | 12/03/08 | 11/28/08 | (G) Acrylic resin
P-08-0430 | 12/04/08 | 11/12/08 | (G) Isocyanate terminated urethane polymer
P-08-0465 | 12/16/08 | 12/12/08 | (G) Reaction product of substituted dioxazine compound and substituted alkyl sulfonyl compound
P-08-0466 | 12/10/08 | 11/28/08 | (G) Phenolic resin
P-08-0629 | 12/02/08 | 11/13/08 | (G) Phenol, 2,4,6,-tris[(dimethylamino)methyl]-, reaction products with triethylenetetramine mixture (includes: N,N′-bis(2-aminoethyl)-1,2-ethanediamine, tris-(2-aminoethyl)amine), N,N′-bis-(2-aminoethyl)piperazine, and N-[(2-aminoethyl)2-aminoethyl]piperazine
P-08-0648 | 12/01/08 | 11/17/08 | (G) Pentaisobutylene
P-08-0650 | 12/12/08 | 12/11/08 | (G) Styrene, methanamine modified polymer
P-08-0651 | 12/12/08 | 12/11/08 | (G) Halogenated styrene modified polymer
P-08-0652 | 12/12/08 | 12/11/08 | (G) Acrylic styrene modified polymer
P-08-0653 | 12/12/08 | 12/11/08 | (G) Acrylonitrile, acrylate, styrene modified polymer

List of Subjects

Environmental protection, Chemicals, Premanufacturer notices.

Dated: April 22, 2009.
Chandler Sirmons,
Acting Director, Information Management Division, Office of Pollution Prevention and Toxics.

[FR Doc. E9-11748 Filed 5-19-09; 8:45 am]

BILLING CODE 6560-50-S